DEPARTMENT OF THE INTERIOR

National Park Service

Submission of Study Package to Office of Management and Budget; Review Opportunity for Public Comment; 30-Day Notice

AGENCY: National Park Service's, National Center for Recreation and Conservation and National Center for Cultural Resources, Department of the Interior.

ACTION: Notice and request for comments.

ABSTRACT: The National Park Service (NPS) is proposing in 2002 to conduct surveys of recipients of services and/or assistance of the following programs: Rivers Trails, and Conservation Assistance Program (RTCA), Federal Lands to Parks Program (FLP), Partnership Wild and Scenic Rivers Program (PWSR), and the Historic Preservation Technical Assistance Program (HP). This survey will be conducted to meet the requirements of the 1995 Government Performance and Results Act (GPRA) and will be used to develop goals to improve effectiveness and public accountability of the respective programs.

Program | Est. number of: Responses | Est. number of: Burden hours
River Trails and Conservation Assistance (RTCA) Program | 150 | 25
Federal Lands to Parks (FLP) Program | 60 | 10
Wild and Scenic Rivers Coordination (WSR) Program | 5 | 1
Historic Preservation Technical Assistance Program (Publications) | 375 | 63
Historic Preservation Technical Assistance (Conferences) | 200 | 33
Total | 790 | 132

SUMMARY: Under the provisions of the Paperwork Reduction Act of 1995 and 5 CFR part 1320, Reporting and Record Keeping Requirements, the NPS invites public comment on these five proposed information collection requests (ICR). Comments are invited on: (1) The need for the information including whether the information has practical utility; (2) the accuracy of the reporting burden estimate; (3) ways to enhance the quality, utility, and clarity of the information to be collected; and (4) ways to minimize the burden of the information collection on respondents, including the use of automated collection techniques or other forms of information technology.

The NPS goal in conducting these surveys is to obtain information to help evaluate and improve its recreation and conservation assistance program and its historic preservation programs. There were no public comments received as a result of publishing in the Federal Register a 60 day notice of intention to request clearance of information collection for these five surveys.

DATES: Public comments will be accepted on or before 30 days from the publication of this notice.

SEND COMMENTS TO: Office of Information and Regulatory Affairs of OMB, Attention Desk Officer for the Interior Department, Office of Management and Budget, Washington, DC 20530; and also to Dr. Michael A. Schuett (Voice: (304) 293-3721) x2415) (e-mail: mschuett@wvu.edu), West Virginia University, Division of Forestry, PO Box 6125, Morgantown, WV 26506-6125.

The OMB has up to 60 days to approve or disapprove the information collection but may respond after 30 days. Therefore, to ensure maximum consideration, OMB should receive public comments on or before 30 days from the publication of this notice.

FOR FURTHER INFORMATION OR A COPY OF THE STUDY PACKAGES SUBMITTED FOR OMB REVIEW, CONTACT: Dr. Michael A. Schuett (Voice: (304) 293-3721)(e-mail: mschuett@wvu.edu), West Virginia University, Division of Forestry, PO Box 6125, Morgantown, WV 26506-6125.

SUPPLEMENTARY INFORMATION: Title: National Park Service Partnerships Programs= GPRA Information Collections; Recreation and Conservation Assistance Customer Satisfaction Survey, Historic Preservation Technical Assistance Customer Satisfaction Questionnaires, Historic Properties Designated or Protected by State Government Partners, and Historic Properties Designated or Protected by Local Government Partners.

Bureau Form Number: None.

OMB Number: 1024-0226

Expiration Date: 12/31/01.

Type of request: Reinstatement, with change, of a currently approved collection for which approval has expired.

Description of need: The Government Performance and Results Act requires the Federal agencies to prepare an annual performance report documenting the progress made toward achieving long term goals. The National Park Service needs the information in the proposed collections to assess the annual progress being made toward meeting Long-term Goals IIIa3 and IIIb2 of the National Park Service Strategic Plan of 1997. The information sought is not collected elsewhere by the Federal Government. The proposed information collections impose no data burden on the potential responders. Responding to the proposed collections is voluntary and is based on data that the respondents already collect and/or personal opinion. The National Park Service needs to obtain information to help evaluate and improve its recreation and conservation assistance program and its historic preservation programs.

Automated data collection: NPS is considering use of the worldwide web as a part of this information collection. NPS is committed to developing and implementing a method to seek evaluation of customer satisfaction with its web-based publications, training, and educational materials. The NPS will attempt to use electronic mail for respondents who have access to it so they can respond via the Internet.

Description of respondents: A sample of partners (individuals, organizations, and/or public agencies) who have received services and/or assistance from the National Park Service Rivers Trails, and Conservation Assistance Program (RTCA), Federal Lands to Parks Program (FLP), Partnerships Wild and Scenic Rivers Program (PWSR), and the Historic Preservation Publications and Technical Assistance Programs (HP).

Estimated average number of respondents: 790 (survey).

Estimated average number of responses: Each respondent will respond only one time, so the number of responses will be the same as the number of respondents.

Estimated average burden hours per response: 10 minutes (survey).

Frequency of Response: 1 time per respondent.

Estimated annual reporting burden: 132 hours (survey).

Richard M. Cripe,
Acting Information Collection Clearance Officer, WASO Administrative Program Center, National Park Service.

[FR Doc. 02-12358 Filed 5-16-02; 8:45 am]

BILLING CODE 4310-70-M